DEPARTMENT OF TRANSPORTATION

Federal Aviation Administration

14 CFR Part 71

Proposed Modification of the Las Vegas, NV, Class B Airspace Area; Public Meetings; Correction

AGENCY: Federal Aviation Administration (FAA), DOT.

ACTION: Notice of meetings; correction.

SUMMARY: The FAA published a Notice of Meetings in the Federal Register of June 17, 2011, concerning a proposal to modify Class B airspace at Las Vegas, NV. The document contained an incorrect address for the informal airspace meeting scheduled Tuesday, August 23, 2011, in Henderson, NV. Also, the document contained the wrong phone number for the contact person. The information for the other two meetings is correct as originally published.

FOR FURTHER INFORMATION CONTACT: John Gough, Manager, Airspace and Procedures, and Bill Ruggiero, Support Manager Las Vegas, TRACON, 699 Wright Brothers Lane, Las Vegas, NV 89119; telephone: (702)-262-5910.

Correction

In the Federal Register of June 17, 2011, in FR Doc. 2011-15107, on page 35371, column 3, correct meeting number (2) in the ADDRESSES caption to read:

ADDRESSES: (2) The meeting on Tuesday, August 23, 2011, will be held at Coronado High School, 1001 Coronado Center Drive, Henderson, NV, 89052.

On page 35371, column 3, correct FOR FURTHER INFORMATION CONTACT caption to read:

FOR FURTHER INFORMATION CONTACT: John Gough, Manager, Airspace and Procedures, and Bill Ruggiero, Support Manager Las Vegas, TRACON, 699 Wright Brothers Lane, Las Vegas, NV 89119; telephone: (702) 262-5910.

Issued in Washington, DC, on June 20, 2011.
Gary A. Norek,
Acting Manager, Airspace, Regulations and ATC Procedures Group.

[FR Doc. 2011-15884 Filed 6-23-11; 8:45 am]

BILLING CODE 4910-13-P